DEPARTMENT OF COMMERCE

[Docket No. 05-BIS-14]

Bureau of Industry and Security

Action Affecting Export Privileges; Ihsan Elashi, Tetrabal Corporation, Al Kayali Corporation, Mynet.Net Corporation, Infocom Corporation, Synaptix.Net, Maysoon Al Kayali, Hazim Elashi, Bayan Elashi, Ghassan Elashi, Basman Elashi, Majida Salem and Fadwa Elafrangi; Order Making Denial of Export Privileges Against Ihsan Elashi Applicable to Related Persons

Pursuant to Section 766.23 of the Export Administration Regulations (“EAR”), the Bureau of Industry and Security (“BIS”), U.S. Department of Commerce, through its Office of Export Enforcement (“OEE”), has requested that I make the denial order that was imposed against Ihsan Elashi on June 29, 2006 applicable to the following entities, as persons related to Ihsan Elashi:

(1) Tetrabal Corporation, 605 Trail Lake Drive, Richardson, Texas 75081.

(2) Al Kayali Corporation, 605 Trail Lake Drive, Richardson, Texas 75081.

(3) Mynet.net Corporation, 605 Trail Lake Drive, Richardson, Texas 75081.

(4) Infocom Corporation, 401 International Parkway, Richardson, Texas 75081.

(5) Synaptix.Net, 401 International Parkway, Richardson, Texas 75081.

(6) Maysoon Al Kayali, 605 Trail Lake Drive, Richardson, Texas 75081.

(7) Hazim Elashi, Inmate 28685-177, Seagoville FCI, 2113 North Highway, Seagoville, Texas 75159.

(8) Bayan Elashi, Inmate 28688-177, Seagoville FCI, 2113 North Highway, Seagoville, Texas 75159.

(9) Ghassan Elashi, 304 Town House Lane, Richardson, Texas 75081.

(10) Basman Elashi, Inmate 29686-177, Seagoville FCI, 2113 North Highway, Seagoville, Texas 75159.

(11) Majida Salem, 304 Town House Lane, Richardson, Texas 75081.

(12) Fadwa Elafrangi, 304 Town House Land, Richardson, Texas 75081.

(hereinafter collectively referred to as the “Related Persons”).

On June 29, 2006, an order was issued and on July 10, 2006, that order was published in the Federal Register imposing a fifty year denial of export privileges against Ihsan Medhat Elashi (a/k/a I. Ash, Haydee Herrera, Abdullah Al Nasser, Samer Suwwan, and Sammy Elashi), of Seagoville FCI, 2113 North Highway, Seagoville, Texas, 75159 (71 FR 38843, July 10, 2006), resulting from the decision and order issued by the Under Secretary of Commerce for Industry and Security after litigation of administrative charges against Ihsan Elashi related to his involvement in a conspiracy to export items to Syria without the required licenses and for his involvement in a scheme to export items to various destinations in violation of a temporary denial of his export privileges.

BIS has presented evidence that indicates that the Related Persons are related to Ihsan Elashi by ownership control, position of responsibility, affiliation, or other connection in the conduct of trade or business, and that it is necessary to add these persons to the denial order against Ihsan Elashi in order to avoid evasion of that order.

BIS has notified all Related Persons of this action in accordance with the requirements of Sections 766.23 and 766.5(b) of the Export Administration Regulations and BIS received responses from five of the Related Persons. Three of the responses, those of Ghassan Elashi, Majida Salem, and Fadwa Elafrangi, failed to address whether they are related to Ihsan Elashi by ownership control, position of responsibility, affiliation, or other connection in the conduct of trade or business, and whether it is necessary to add these persons to the denial order against Ihsan Elashi in order to avoid evasion of that order. One of the responses, that of Basman Elashi, noted that he was not involved in any of the violations committed by Ihsan Elashi in violation of the temporary denial order against Ihsan Elashi and Tetrabal Corporation. The final response, that of Bayan Elashi, denies complicity in the specific transactions that were the subject of the litigation in the Ihsan Elashi case. After a review of the evidence and the responses, I find that it is necessary to make the Order imposed against Ihsan Elashi applicable to the above-named Related Persons to prevent the evasion of that Order.

It Is Now Therefore Ordered

First, that having been provided notice and opportunity for comments as provided in Section 766.23 of the Export Administration Regulations (hereinafter, the “Regulations”), the following parties (hereinafter, “Related Persons”) have been determined to be related to Ihsan Medhat Elashi (a/k/a I. Ash, Haydee Herrera, Abdullah Al Nasser, Samer Suwwan, and Sammy Elashi), of Seagoville FCI, 2113 North Highway, Seagoville, Texas, 75159, by affiliation, ownership, control, or position of responsibility in the conduct of trade or related services, and it has been deemed necessary to make the Order denying the export privileges of Ihsan Elashi applicable to these Related Persons in order to prevent evasion of the Order:

A. Tetrabal Corporation, 605 Trail Lake Drive, Richardson, Texas 75081.

B. Al Kayali Corporation, 605 Trail Lake Drive, Richardson, Texas 75081.

C. Mynet.net Corporation, 605 Trail Lake Drive, Richardson, Texas 75081.

D. Infocom Corporation, 401 International Parkway, Richardson, Texas 75081.

E. Synaptix.Net, 401 International Parkway, Richardson, Texas 75081.

F. Maysoon Al Kayali, 605 Trail Lake Drive, Richardson, Texas 75081.

G. Hazim Elashi, Inmate 28685-177, Seagoville FCI, 2113 North Highway, Seagoville, Texas 75159.

H. Bayan Elashi, Inmate 28688-177, Seagoville FCI, 2113 Noth Highway, Seagoville, Texas 75159.

I. Ghassan Elashi, 304 Town House Lane, Richardson, Texas 75081.

J. Basman Elashi, Inmate 29686-177, Seagoville FCI, 2113 North Highway, Seagoville, Texas 75159.

K. Majida Salem, 304 Town House Lane, Richardson, Texas 75081.

L. Fadwa Elafrangi, 304 Town House Lane, Richardson, Texas 75081.

Second, that the denial of export privileges described in the Order against Ihsan Elashi which was published in the Federal Register on July 10, 2006, shall be made applicable to the Related Persons until June 29, 2056 as follows:

I. The Related Persons, their successors or assigns, and when acting for or on behalf of the Related Persons, their officers, representatives, agents, or employees (collectively, “Denied Persons”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Denied Persons any item subject to the Regulations:

B. Take any action that facilitates the acquisition or attempted acquisition by the Denied Persons of the ownership, possession, or control of any item subject to the Regulations that has been or will be exported from the United States, including financing or other support activities related to a transaction whereby the Denied Person acquires or attempts to acquire such ownership, possession or control;

C. Take any action to acquire from or to facilitate the acquisition or attempted acquisition from the Denied Persons of any item subject to the Regulations that has been exported from the United States;

D. Obtain from the Denied Persons in the United States any item subject to the Regulations with knowledge or reason to know that the item will be, or is intended to be, exported from the United States; or

E. Engage in any transaction to service any item subject to the Regulations that has been or will be exported from the United States and which is owned, possessed or controlled by the Denied Persons, or service any item, of whatever origin, that is owned, possessed or controlled by the Denied Persons if such service involves the use of any item subject to the Regulations that has been or will be exported from the United States. For purposes of this paragraph, servicing means installation, maintenance, repair, modification or testing.

Third, that in accordance with the provisions of Section 766.23(c) of the Export Administration Regulations, any of the Related Persons may, at any time, make an appeal related to this Order by filing a full written statement in support of the appeal with the Office of the Administrative Law Judge, U.S. Coast Guard ALJ Docketing Center, 40 South Gay Street, Baltimore, Maryland 21202-4022.

Fourth, that this Order does not prohibit any export, reexport, or other transaction subject to the Regulations where the only items involved that are subject to the Regulations are the foreign-produced direct product of U.S.-origin technology.

Fifth, that this Order shall be published in the Federal Register and a copy provided to each of the Related Persons.

This Order is effective upon publication in the Federal Register.

Entered this 23d day of January 2007.
Wendy L. Wysong,
Acting Assistant Secretary of Commerce for Export Enforcement.

[FR Doc. 07-389 Filed 1-29-07; 8:45 am]

BILLING CODE 3510-DT-M